DEPARTMENT OF DEFENSE

Office of the Secretary

Submission for OMB Review; Comment Request

ACTION: Notice.

The Department of Defense has submitted to OMB for clearance, the following proposal for collection of information under the provisions of the Paperwork Reduction Act (44 U.S.C. Chapter 35).

Title, Form, and OMB Number: Air Force Officer Training School (OTS) Accession Forms; AETC Forms 1413 and 1422; OMB Number 0701-0080.

Type of Request: Extension.

Number of Respondents: 1,200.

Responses per Respondent: 1.

Annual Responses: 1,200.

Average Burden per Response: 1.25 hours.

Annual Burden Hours: 1,500.

Needs and Uses: These forms are used by Air Force field recruiters and education counselors in the processing of Officer Training School (OTS) applications. Respondents are civilian and active-duty candidates applying for a commission in the U.S. Air Force. These forms provide pertinent information to facilitate selection of candidates for a commission.

Affected Public: Individuals or Households.

Frequency: On Occasion.

Respondent's Obligation: Required to Obtain or Retain Benefits.

OMB Desk Officer: Mr. Edward C. Springer.

Written comments and recommendations on the proposed information collection should be sent to Mr. Springer at the Office of Management and Budget, Desk Officer for DoD, Room 10236, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: November 30, 2000.
Patricia L. Toppings,
Alternate OSD Federal Register Liaison Officer, Department of Defense.

[FR Doc. 00-31238 Filed 12-7-00; 8:45 am]

BILLING CODE 5001-10-M